DEPARTMENT OF ENERGY

Federal Energy Regulatory Commission

[Project No. 2852-015]

New York State Electric & Gas Corporation, New York; Notice of Availability of Environmental Assessment

December 11, 2002.

In accordance with the National Environmental Policy Act of 1969, as amended, and the Federal Energy Regulatory Commission's (Commission) regulations, 18 CFR part 380 (Order No. 486, 52 FR 47897), the Office of Energy projects staff have reviewed the application for a nonpower license for the Keuka Hydroelectric Project, located between Waneta Lake and Lamoka Lake impoundments, and Keuka Lake in Steuben and Schuyler Counties, New York and have prepared an Environmental Assessment (EA) for the project. The EA contains the staff's analysis of the potential environmental effects of the proposed action by the applicant, the proposed action with additional staff-recommended measures, and no-action.

A copy of the EA is available for review in the public Reference Branch, Room 2-A, of the Commission's office at 888 First Street, NE., Washington, DC 20426. The EA may also be viewed on the web at http://www.ferc.gov using the “FERRIS” link. Enter the docket number excluding the last three digits in the docket number field to access the document. For assistance, please contact FERC Online Support at FERCOnlineSupport@ferc.gov or toll-free at (866)208-3676, or for TTY, contact (202)502-8659.

Any comments should be filed within 30 days from the date of this notice and addressed to Magalie R. Salas, Secretary, Federal Energy Regulatory Commission, 888 First Street, NE., Washington, DC 20426. Please affix “Keuka Hydroelectric Project, FERC No. 2852-015” to all comments. Comments may be filed electronically via the Internet in lieu of paper; see 18 CFR 385.2001(a)(1)(iii) and the instructions on the Commission's Web site under the “e-Filing” link. The Commission strongly encourages electronic filings.

For further information, contact Patti Leppert at (202)502-6034 or by E-mail at patricia.leppert@ferc.gov.

Magalie R. Salas,
Secretary.

[FR Doc. 02-31597 Filed 12-13-02; 8:45 am]

BILLING CODE 6717-01-P